DEPARTMENT OF VETERANS AFFAIRS

National Research Advisory Council, Notice of Meeting

The Department of Veterans Affairs (VA) gives notice under the Federal Advisory Committee Act, 5 U.S.C. ch. 10, that the National Research Advisory Council will hold a meeting on Wednesday, December 6, 2023, by Teams. The teleconference number is 1-872-701-0185, Phone Conference ID: 830 018 956# or the meeting link is https://teams.microsoft.com/l/meetup-join/19%3ameeting_NGYzZDdiN2MtYWYwOC00ZDE0LThmNjctZTUzNjk0YzRlMmJm%40thread.v2/0?context=%7b%22Tid%22%3a%22e95f1b23-abaf-45ee-821d-b7ab251ab3bf%22%2c%22Oid%22%3a%227a4935a6-e7e0-4f23-b7e9-443546f09fa8%22%7d.

The meeting will convene at 11:00 a.m. and end at 2:00 p.m. Eastern Standard Time. This meeting is open to the public and will include time reserved for public comment at the end of the meeting. The public comment period will be 30 minutes. Individual stakeholders will be afforded three to five minutes to express their comments.

The purpose of the National Research Advisory Council (NRAC) is to advise the Secretary on research conducted by the Veterans Health Administration, including policies and programs targeting the high priority of Veterans' health care needs.

On December 6, 2023, the agenda will include remarks from the Assistant Undersecretary of Health, Discovery, Education, and Affiliate Networks (DEAN); The NRAC vision for supporting the VA Research Enterprise; VA Office of Research and Development policy updates; Sensitive Species Subcommittee and Diversity and Inclusion Subcommittee annual updates; updates on Pathology Specimen Storage and an overview of the National Academic Affiliations Council (NAAC) and opportunities for collaboration with the NRAC.

No time will be allocated at this meeting for receiving oral presentations from the public. Members of the public may submit written statements for review by the NRAC in advance of the meeting. Public comments may be received no later than close of business November 24, 2023, for inclusion in the official meeting record. Please send statements to Rashelle Robinson, Designated Federal Officer, Office of Research and Development (14RD), Department of Veterans Affairs, 810 Vermont Avenue NW, Washington, DC 20420, at 202-443-5768, or Rashelle.robinson@va.gov. Any member of the public seeking additional information should contact Rashelle Robinson at the above phone number or email address noted above.

Dated: November 9, 2023.
LaTonya L. Small,
Federal Advisory Committee Management Officer.

[FR Doc. 2023-25229 Filed 11-14-23; 8:45 am]

BILLING CODE P